DEPARTMENT OF HEALTH AND HUMAN SERVICES

Centers for Medicare & Medicaid Services

42 CFR Parts 412, 482, 485, and 489

[CMS-1599-CN]

RIN 0938-AR53

Medicare Program; Hospital Inpatient Prospective Payment Systems for Acute Care Hospitals and the Long Term Care Hospital Prospective Payment System and Proposed Fiscal Year 2014 Rates; Quality Reporting Requirements for Specific Providers; Hospital Conditions of Participation; Corrections

AGENCY: Centers for Medicare & Medicaid Services (CMS), HHS.

ACTION: Proposed rule; correction.

SUMMARY: This document corrects technical and typographical errors in the proposed rule that appeared in the May 10, 2013 Federal Register titled “Medicare Program; Hospital Inpatient Prospective Payment Systems for Acute Care Hospitals and the Long Term Care Hospital Prospective Payment System and Proposed Fiscal Year 2014 Rates; Quality Reporting Requirements for Specific Providers; Hospital Conditions of Participation.”

FOR FURTHER INFORMATION CONTACT: Tzvi Hefter (410) 786-4487, for corrections regarding MS-DRG classifications and new technology add-on payments.

Eva Fung (410) 786-7539, for corrections regarding the Hospital Readmission Reduction Program Hospital and Hospital Inpatient Quality Reporting Program.

William Lehrman (410) 786-1037, for corrections regarding the Hospital Consumer Assessment of Healthcare Providers and Systems (HCAHPS) requirements.

Charles Padgett (410) 786-2811 for corrections regarding the Long-Term Care Quality Reporting Program.

SUPPLEMENTARY INFORMATION:

I. Background

In FR Doc. 2013-10234 of May 10, 2013 (78 FR 27486), there were a number of technical errors that are identified and corrected in the Correction of Errors section of this correcting document.

II. Summary of Errors

A. Errors in the Preamble

On page 27514, in our discussion of the proposed changes to specific Medicare severity diagnosis-related group (MS-DRG) classifications, we made a typographical error in a section heading.

On page 27545, in our discussion of the fiscal year (FY) 2014 applications for new technology add-on payments, we made inadvertent technical and formatting errors in the table regarding differences between the Responsive Neurostimulator (RNS®) System and Deep Brain Stimulator (DBS) and Vagus Nerve Stimulator (VNS) Systems (the table is titled “KEY DIFFERENCES BETWEEN THE RNS SYSTEM AND DBS AND VNS SYSTEMS.”)

On pages 27595 and 27596, in our discussion of the FY 2014 proposals regarding the Hospital Readmission Reduction Program, we inadvertently provided the incorrect hyperlink to a readmissions report.

On page 27622, in our discussion of the Hospital-Acquired Condition (HAC) Reduction Program for FY 2015, we made a typographical error in the text of a footnote.

On pages 27625 and 27630, in our discussion of standardized infection ratio (SIR) and healthcare-association infections (HAI), we made several typographical and technical errors in describing the predicted number and how the predicted number of events is calculated.

On page 27634, in our discussion of Hospital Inpatient Quality Reporting Program, we made errors regarding the clinical measures set and stratum.

On page 27699, in our discussion of the Hospital Consumer Assessment of Healthcare Providers and Systems (HCAHPS) requirements, we made an error in the timeframe specified for obtaining and submitting completed surveys.

On page 27700, in our discussion of the Hospital Consumer Assessment of Healthcare Providers and Systems (HCAHPS) requirements, we made a typographical error in referencing the Centers for Disease Control and Prevention's National Healthcare Safety Network (NHSN).

On page 27704, in our discussion of the HAI measures included in the current Hospital IQR validation process, we made errors in referencing the timeframe for updating the list of the common commensals and in the hyperlink for the CLABSI Validation Template.

On page 27710, in our discussion of the PPS-Exempt Cancer Hospital Quality Reporting Program (PCHQR), we made a typographical error in referencing CDC's NHSN.

On page 27714, we inadvertently made technical errors in describing where the HCHAPS survey, methodology, and results can be found.

On pages 27721, 27722, 27723, 27725, 27726, 27729, 27730, 27731, 27752, and 27755, in our discussion regarding the LTCHQR Program, we made typographical and technical errors in a hyperlink and several measure names and NQF measure identification numbers. We also made errors outlining the proposed timeline for submission of the LTCHQR quality data for the application of NQF #0674 and referencing CDC's NHSN.

B. Errors in the Addendum

On page 27810, in our discussion of the effects of the proposed implementation of the HAC Reduction Program, we made inadvertent errors in the total number of hospitals that had submitted complete data.

On page 27819, in our discussion of the effects of the FY 2014 LTCHQR Program, we made several typographical errors.

III. Correction of Errors

In FR Doc. 2013-10234 of May 10, 2013 (78 FR 27486), make the following corrections:

A. Corrections of Errors in the Preamble

1. On page 27514, first column, paragraph 3, heading “a. Endoscopic Placement of a Bronchial Value” is corrected to read “a. Endoscopic Placement of a Bronchial Valve”.

2. On page 27545, the top of the page, the table titled “KEY DIFFERENCES BETWEEN THE RNS SYSTEM AND DBS AND VNS SYSTEMS” is corrected as follows:

Key Differences Between the RNS® System and DBS and VNS Systems
| RNS® system | Deep brain stimulator (DBS) | Vagus nerve stimulator (VNS)
Type of stimulation | Closed loop: responsive | Open loop: scheduled.
Stimulation time/day | About 5 minutes | Hours—Continuous.
Stimulation target | Cortical; varies according to seizure focus | Deep brain nuclei | Ascending vagus nerve.
Neurostimulator | Cranially implanted | Subcutaneously (pectorally) implanted.
Programming changes | According to clinical and electrographic response | According to clinical response.
Information from device | Device data, detections, stimulations and electrocorticograms | Device data.
Physician data review | At time of programming as well as online access to stored data | At time of programming.

3. On page 27595,

a. Second column, first partial paragraph, lines 4 through 8, the hyperlink, “http://www.cms.gov/Medicare/Quality-Initiatives-Patient-Assessment-Instruments/Hospital_QualityInits/Measure-Methodology.html.” is corrected to read “http://www.cms.gov/Medicare/Quality-Initiatives-Patient-Assessment-Instruments/HospitalQualityInits/Measure-Methodology.html.”.

b. Third column, third full paragraph, lines 10 through 13, the hyperlink, “http://www.cms.gov/Medicare/Quality-Initiatives-Patient-Assessment-Instruments/Hospital_QualityInits/Measure-Methodology.html.” is corrected to read “http://www.cms.gov/Medicare/Quality-Initiatives-Patient-Assessment-Instruments/HospitalQualityInits/Measure-Methodology.html.”.

4. On page 27596, first column, first partial paragraph, lines 10 through 14, the parenthetical hyperlink, “(http://www.cms.gov/Medicare/Quality-Initiatives-Patient-Assessment-Instruments/Hospital_QualityInits/Measure-Methodology.html).” is corrected to read “(http://www.cms.gov/Medicare/Quality-Initiatives-Patient-Assessment-Instruments/HospitalQualityInits/Measure-Methodology.html).”

5. On page 27622, second column, last paragraph (footnote 53), line 8, the parenthetical figure, “(140.9).” is corrected to read “(140.6).”.

6. On page 27625,

a. Second column, first full paragraph,

(1) Line 22, the phrase, “based on quarterly reporting.” is corrected to read “based on quarterly and annual reporting.”

(2) Line 45, the figure, “1.000” is corrected to read “1,000”.

b. Third column, first partial paragraph, line 1, the phrase “predicted HAI events to reduce” is corrected to read “predicted HAI events to produce”.

7. On page 27630, first column, first full paragraph,

a. Lines 2 and 3, the phrase ” the facility have >1 predicted HAI event” is corrected to read “the facility to have a ≥ 1 predicted HAI event”.

b. Lines 5 and 6, the phrase, “national HAI rate and the observed number of the specific HAIs.” is corrected to read “national HAI rates and denominator counts (that is, number of device days, procedure days, or patient days depending on the HAI).”.

8. On page 27634, first column, first partial paragraph,

a. Lines 15 through 17, the phrase “chart-abstracted information for the full 4½ months following the last discharge date in a calendar quarter.” is corrected to read, “the chart-abstracted information for the full 4½ months following the end of a calendar quarter.”.

b. Lines 18 and 19, the phrase “the first discharge day of any reporting quarter.” is corrected to read “the first day of any reporting quarter.”

c. Lines 32 and 33, the phrase “denominator, and percentage of total for each Clinical Measure Set and Stratum.” is corrected to read “denominator, and calculated SIR for each HAI stratum.”.

d. Lines 35 and 36, the phrase, “performance on each measure set/stratum ” is corrected to read “performance on each HAI stratum”.

e. Lines 41 through 45, the phrase, “view their percentage of total, or measure rate, on each Clinical Measure Set/Strata for use in both the Hospital IQR Program and the HAC Reduction Program.” is corrected to read “view their calculated SIR on each HAI stratum for use in both the Hospital IQR Program and the HAC Reduction Program.”.

f. Lines 55 through 59, the phrase, “measure rates for chart-abstracted measures as specified, they would have no further opportunity to correct such data or measure rates.” is corrected to read “measure SIRs for chart-abstracted measures as specified, they would have no further opportunity to correct such data or measure SIRs.”.

9. On page 27699, third column, last paragraph, lines 5 and 6, the phrase, “rolling quarter period.” is corrected to read “rolling four quarter period.”.

10. On page 27700, in the table, the phrase, “CDC/NHSN” is corrected to read “CDC's NHSN”.

11. On page 27704, second column, first partial paragraph,

a. Lines 1 through 3, the phrase “list is frequently updated, but the link containing updates is currently out of date.” is corrected to read “list is updated annually.”.

b. Lines 8 through 10, the sentence “At present that list may be found at: http://www.cdc.gov/nhsn/acute-care-hospital/clabsi/index.html.” is corrected to read “The current list may be found at: http://www.cdc.gov/nhsn/XLS/master-organism-Com-Commensals-Lists.xlsx.”.

12. On 27710, second column, second full paragraph, lines 5 and 6, the phrase, “two CDC/NHSN-based” is corrected to read “two of the CDC's NHSN-based”.

13. On 27714, third column, second full paragraph, lines 10 through 12, the sentence, “The survey, its methodology and the results it produces are available on Hospital Compare.” is corrected to read “The survey and its methodology are available on the HCAHPS On-Line Web site located at: http://www.hcahpsonline.org and the survey results are available on the Hospital Compare Web site at http://www.hospitalcompare.hhs.gov.”.

14. On page 27721, lower third of the page, third column, partial paragraph, lines 5 and 6, the hyperlink “http://www.cdc.gov/flu/about/season/flu-season-2012-2013.htm” is corrected to read “http://www.cdc.gov/flu/pastseasons/1213season.htm.”

15. On page 27723, top of the page, lines 2 and 3, in the table heading that begins “PROPOSED TIMELINE FOR SUBMISSION OF LTCHQR,” the phrase “ASSESSED AND APPROPRIATELY GIVE” is corrected to read “ASSESSED AND APPROPRIATELY GIVEN”.

16. On page 27725, first column, first full paragraph,

a. Lines 1 and 2 the phrase “CDC/NHSN” is corrected to read “CDC's NHSN.”.

b. Lines 5 and 6, the phrase “CDC/NHSN” is corrected to read “CDC's NHSN.”

c. Line 27 the phrase “CDC/NHSN” is corrected to read “CDC's NHSN.”

17. On page 27726, first column,

a. First partial paragraph, lines 3 and 4, the phrase “CDC/NHSN” is corrected to read “CDC's NHSN.”

b. First full paragraph,

(1) Lines 1and 2 the phrase, “CDC/NHSN” is corrected to read “CDC's NHSN”.

(2) Lines 6 and 7, the phrase, “CDC/NHSN” is corrected to read “CDC's NHSN”.

(3) Line 30, the phrase, “CDC/NHSN” is corrected to read “CDC's NHSN”.

18. On page 27729, second column, fourth paragraph, lines 3 and 4, the phrase “Percent of Nursing Home Residents Experiencing” is corrected to read “Percent of Residents Experiencing”.

19. On page 27730, lower third of the page, third column, partial paragraph (between the tables), line 3, the phrase “CDC/NHSN” is corrected to read “CDC's NHSN.”

20. On page 27731,

a. First column, first paragraph,

(1) Line 28, the term “subseqeuent” is corrected to read “subsequent.”

(2) Line 32, the phrase “CDC/NHSN” is corrected to read “CDC's NHSN.”

b. Third column,

(1) In the first table titled “TIMELINE FOR DATA COLLECTION OF LTCHQR PROGRAM QUALITY DATA FOR THE FY 2016 PAYMENT DETERMINATION,” the listed entries for Column 1 (NQF measure ID) are corrected to read as follows:

NQF measure ID
NQF #0680**
NQF #0431**

(2) In the last table titled “PROPOSED TIMELINE FOR SUBMISSION OF LTCHQR PROGRAM QUALITY DATA FOR THE FY 2016 PAYMENT DETERMINATION AND SUBSEQUENT PAYMENT DETERMINATIONS: NQF #0680 PERCENTAGE OF RESIDENTS OR PATIENTS WHO WERE ASSESSED AND APPROPRIATELY GIVEN THE SEASONAL INFLUENZA VACCINE (SHORT STAY), the table is corrected to read as follows:

Proposed Timeline for Submission of LTCHQR Program Quality Data for the FY 2016 Payment Determination and Subsequent Payment Determinations: NQF #0680 Percentage of Residents or Patients Who Were Assessed and Appropriately Given the Seasonal Influenza Vaccine (Short Stay)
Data collection timeframe | Submission deadline
Q2 (April-June 2014) | August 15, 2014.
Q3 (July-September 2014) | November 15, 2014.
Q4 (October-December 2014) | February 15, 2015.

21. On page 27733, first column, first table, in the table titled “PROPOSED TIMELINE FOR SUBMISSION OF LTCHQR PROGRAM QUALITY DATA FOR THE FY 2018 PAYMENT DETERMINATION—Continued,” first column of the table (NQF measure ID), last line, the entry “NQF #0674” is corrected to read “Application of NQF #0674”.

22. On page 27752, first column,

a. First partial paragraph, line 15, the term “subseqeuent” is corrected to read “subsequent”.

b. First full paragraph, line 6 and 7, the phrase “CDC/NHSN” is corrected to read “CDC's NHSN”.

23. On page 27755, first column,

a. Second full paragraph, line 2, the phrase “NQF #0674 Percent of” is corrected to read “Application of NQF #0674 Percent of”.

b. Third full paragraph,

(1) Line 6, the parenthetical phrase “(NQF #0674)” is corrected to read “(Application of NQF #0674)”.

(2) Lines 11 and 12, the phrase “the inclusion of the Percent of Residents” is corrected to read “the inclusion of the Application of the Percent of Residents”.

B. Corrections of Errors in the Addendum

1. On page 27810, first column, second full paragraph,

a. Line 1, the figure “3,435” is corrected to read “3,445”.

b. Line 3, the figure “3,435” is corrected to read “3,445”.

2. On page 27819,

a. Second column, third full paragraph, line 27, the term “sunsequent” is corrected to read “subsequent”.

b. Third column, first paragraph, lines 3 and 4, the hyperlink “(http://www.qualityforum.org/projects/patient safety measures.aspx)” is corrected to read “(http://www.qualityforum.org/projects/patient_safety_measures.aspx)”.

(Catalog of Federal Domestic Assistance Program No. 93.773, Medicare—Hospital Insurance; and Program No. 93.774, Medicare—Supplementary Medical Insurance Program)

Dated: June 21, 2013.
Jennifer M. Cannistra,
Executive Secretary to the Department, Department of Health and Human Services.

[FR Doc. 2013-15321 Filed 6-21-13; 4:15 pm]

BILLING CODE 4120-01-P